DEPARTMENT OF DEFENSE

Office of the Secretary

Meeting of the Defense Department Advisory Committee on Women in the Services (DACOWITS)

AGENCY: Department of Defense.

ACTION: Notice of meeting.

SUMMARY: Pursuant to Section 10(a), Public Law 92-463, as amended, notice is hereby given of a forthcoming meeting of the Defense Department Advisory Committee on Women in the Services (DACOWITS). The purpose of the Committee meeting is to introduce new members and conduct orientation training. The meeting is open to the public, subject to the availability of space.

Interested persons may submit a written statement for consideration by the Committee and make an oral presentation of such. Persons desiring to make an oral presentation or submit a written statement to the Committee must notify the point of contact listed below no later than 5 p.m., 5 February 2007. Oral presentations by members of the public will be permitted only on Thursday, 8 February 2007 from 4:30 p.m. to 5 p.m. before the full Committee. Presentations will be limited to two minutes. Number of oral presentations to be made will depend on the number of requests received from members of the public. Each person desiring to make an oral presentation must provide the point of contact listed below with one (1) copy of the presentation by 5 p.m., Monday 5 February 2007 and bring 35 copies of any material that is intended for distribution at the meeting. Persons submitting a written statement must submit 35 copies of the statement to the DACOWITS staff by 5 p.m. on Monday 5 February 2007.

DATES: 8 February 2007, 8:30 a.m.-5 p.m. 9 February 2007, 8:30 a.m.-5 p.m.

Location: Double Tree Hotel Crystal City National Airport, 300 Army Navy Drive, Arlington, VA 22202.

FOR FURTHER INFORMATION CONTACT: CPT Arnalda Magloire, USA, DACOWITS, 4000 Defense Pentagon, Room 2C548A, Washington, DC 20301-4000. Telephone (703) 697-2122. Fax (703) 614-6233.

SUPPLEMENTARY INFORMATION: Meeting agenda.

Thursday 8 February 2007, 8:30 a.m.-5 p.m.

Welcome & Administrative Remarks, 2006 Report Findings and Recommendations, Public Forum.

9 February 2007, 8:30 a.m.-5 p.m.

Welcome & Administrative Remarks, Welcome new members by OSD P&R leadership, 2007 Topic Determination.

Note: Exact order may vary.

Dated: January 16, 2007.
C.R. Choate,
Alternate OSD Federal Register Liaison Officer, Department of Defense.

[FR Doc. 07-221 Filed 1-19-07; 8:45 am]

BILLING CODE 2006-01-M